DEPARTMENT OF ENERGY

Federal Energy Regulatory Commission

[Project No. 67-131]

Southern California Edison Company; Notice of Application for Temporary Variance Accepted for Filing, Soliciting Comments, Motions To Intervene, and Protests

Take notice that the following hydroelectric application has been filed with the Commission and is available for public inspection:

a. Type of Proceeding: Request for temporary variance of the minimum reservoir elevation requirement for Florence Lake, pursuant to Article 37(a) of the Big Creek No. 2A, 8, and Eastwood Hydroelectric Project.

b. Project No.: 67-131.

c. Date Filed: March 17, 2017.

d. Licensee: Southern California Edison Company.

e. Name of Project: Big Creek No. 2A, 8, and Eastwood Project.

f. Location: The project is located on various streams which are tributaries of the San Joaquin River in Fresno County, California. The project occupies federal lands within the Sierra National Forest.

g. Filed Pursuant to: Federal Power Act, 16 U.S.C. 791a-825r.

h. Licensee Contact: Mr. Wayne Allen, Southern California Edison Company, 1515 Walnut Grove Avenue, Rosemead, California 91770, wayne.allen@sce.com or Jay Kimbler at jay.kimbler@sce.com.

i. FERC Contact: Ms. Diana Shannon, (202) 502-6136, Diana.shannon@ferc.gov.

j. Deadline for filing comments, interventions, and protests is 30 days from the issuance date of this notice by the Commission. The Commission strongly encourages electronic filing. Please file motions to intervene, protests and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-67-131.

k. Description of Request: The licensee requests a temporary variance of its minimum reservoir elevation requirement at Florence Lake, pursuant to Article 37(a) of the license which requires an elevation of 7,276.6 feet during the recreation season (July 1 through August 31) and a minimum reservoir elevation of 7,232.6 feet during the remainder of the year. The licensee requests a variance to allow Florence Lake to be drawn down below elevation 7,276.6 feet during the entire 2017 recreation season, to facilitate the installation of a geomembrane liner on the bottom half of the upstream face of Florence Lake Dam. This will enable crews to access the lower portions of the dam, excavate sediment where necessary, and seal the bottom of the membrane liner. The licensee states that a variance from the non-recreation season minimum pool requirement will not be required as the lake will be maintained at or above 7,232.6 feet for the remainder of the year. The licensee has consulted with the resource agencies and the U.S. Army Corps of Engineers regarding this proposal.

l. This filing may be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction in the Commission's Public Reference Room located at 888 First Street NE., Room 2A, Washington, DC 20426, or by calling (202) 502-8371.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .212 and .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate the temporary variance that is the subject of this notice. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: April 5, 2017.
Kimberly D. Bose,
Secretary.

[FR Doc. 2017-07242 Filed 4-10-17; 8:45 am]

BILLING CODE 6717-01-P